DEPARTMENT OF TRANSPORTATION

Federal Aviation Administration

Notice of Release From Federal Surplus Property and Grant Assurance Obligations at Porterville Municipal Airport, Porterville, CA

AGENCY: Federal Aviation Administration, DOT.

ACTION: Notice of request to release airport land.

SUMMARY: The Federal Aviation Administration (FAA) proposes to rule and invites public comment on the application for a release of approximately 26 acres of airport property at the Porterville Municipal Airport (Airport), Porterville, California from all conditions contained in the Surplus Property Deed and Grant Assurances because the parcel of land is not needed for airport purposes. The land requested to be released is located at the southwest corner of the airport and distant from the airfield. The land had previously been set aside as mitigation for a kit fox preserve, which prevented any airport activity on the property. The wildlife designation was recently eliminated allowing the City of Porterville (City) to acquire the property at its fair market value, thereby serving the interest of civil aviation. It will be developed for another purpose compatible with the airport and the new use will not interfere with the airport or its operation.

DATES: Comments must be received on or before September 20, 2012.

FOR FURTHER INFORMATION CONTACT: Comments on the request may be mailed or delivered to the FAA at the following address: Robert Lee, Airports Compliance Specialist, Federal Aviation Administration, San Francisco Airports District Office, Federal Register Comment, 1000 Marina Boulevard, Suite 220, Brisbane, CA 94005. In addition, one copy of the comment submitted to the FAA must be mailed or delivered to Mr. Bradley D. Dunlap, Community Development Director, 291 N. Main Street, Porterville, CA 93257.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The City of Porterville, California requested a release from Federal surplus property and grant assurance obligations for approximately 26 acres of airport land to allow for its sale. The property was originally acquired pursuant to the Surplus Property Act of 1944 and was deeded to the City of Porterville on June 16, 1948. The parcel of land is located some distance from the airfield in the southwest corner of the airport; outside of the airport fence line; east of the secondary access road; and north of Teapot Dome Avenue. Due to its location and undeveloped condition, the property cannot be readily used and will not be needed for airport purposes.

The property had been set aside as part of a 40-acre kit fox preserve and could not be used for any other purpose. Based on biological surveys in 2005 and 2006, the U.S. Fish and Wildlife Service determined that the preserve site was no longer needed. By purchasing conservation credits, the City of Porterville was able to obtain an amendment to the 1990 Biological Opinion that established the kit fox preserve in order to eliminate the wildlife designation. The land was never used for airport purposes and is not needed for future airport use. The City of Porterville will acquire the property and use approximately 16 acres for City related purposes and future development. The City will compensate the Airport fund for the fair market value of the land.

The sale price of the parcel will be based on an appraisal of its fair market value. The sales proceeds are being devoted to airport operations and capital projects. The reuse of the property will not interfere with the airport or its operation, thereby serving the interests of civil aviation.

Issued in Brisbane, California, on August 13, 2012.
Robin K. Hunt,
Manager, San Francisco Airports District Office, Western-Pacific Region.

[FR Doc. 2012-20478 Filed 8-20-12; 8:45 am]

BILLING CODE 4910-13-P